NATIONAL SCIENCE FOUNDATION

Committee on Equal Opportunities in Science and Engineering; Notice of Meeting

In accordance with the Federal Advisory Committee Act Pub. L. 92-463, as amended, the National Science Foundation announces the following meeting:

Name: Committee on Equal Opportunities in Science and Engineering (1173).

Date/Time: October 16, 2001, 8 am-5:30 pm and October 17, 2001, 8 am-3 pm.

Place: Room 1235, National Science Foundation, 4201 Wilson Blvd., Arlington, VA.

Type of Meeting: Open.

Contact Person: John Wilkinson, Executive Liaison to CEOSE, National Science Foundation, 4201 Wilson Blvd., Arlington, VA 22230, Phone (703) 292-8741.

Minutes: May be obtained from the Executive Liaison at the above address.

Purpose of Meeting: To provide advice and recommendations concerning broadening participation in science and engineering.

Agenda

Tuesday, October 16, 2001, 8 am-5:30 pm

8:00 am Breakfast with NSF Staff

8:30 am Welcome; Approval of June 2001 Minutes

8:45 am Report of Executive Council Liaison

9:00 am CEOSE Discussion of Cross-Cutting Issues and Overview of the Meeting

10:45 am Break

11:00 am Continuation of Discussion of Cross-Cutting Issues and Future Agenda

12:00 pm Lunch

1:00 pm Programs to Promote Diversity at Lucent Technologies—Dr. James West

2:00 pm DOE/NSF Partnership to Promote S&E Diversity—Dr. Peter Falera; Update on Building Engineering and Scientific Talent—Dr. Wanda Ward

3:15 pm Break

3:30 pm Committee Discussion

4:00 pm Discussion with the Director, NSF—Dr. Rita Colwell

4:45 pm Presentation of Advisory Committee Reports from CEOSE Liaisons

5:30 pm Adjourn for the day

Wednesday, October 17, 2001 8 am-3 pm

8:00 am Breakfast

8:30 am Committee Discussion: Report Planning for 2002 CEOSE Report

10:30 am Break

11:00 am Discussion with the Deputy Director, NSF—Dr. Joseph Bordogna

12:00 am Lunch

1:00 pm Disaggregation of Demographic Data—Dr. Samuel Peng

2:00 pm Committee Discussion: Wrap-up and Future Directions

3:00 pm Adjourn

Dated: October 2, 2001.
Susanne Bolton,
Committee Management Officer.

[FR Doc. 01-25094 Filed 10-4-01; 8:45 am]

BILLING CODE 7555-01-M